DEPARTMENT OF TRANSPORTATION

Federal Aviation Administration

14 CFR Part 97

[Docket No. 30973; Amdt. No. 3604]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 2, 2014. The compliance date for each SIAP, associated Takeoff Minimums, and ODP is specified in the amendatory provisions.

The incorporation by reference of certain publications listed in the regulations is approved by the Director of the Federal Register as of September 2, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC on August 1, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * *

Effective Upon Publication

AIRAC Date | State | City | Airport | FDC No. | FDC Date | Subject
18-Sep-14 | CA | Santa Rosa | Charles M. Schulz—Sonoma County | 4/0400 | 07/17/14 | RNAV (GPS) RWY 2, Orig.
18-Sep-14 | NC | Elizabeth City | Elizabeth City CG Air Station/Rgnl | 4/0862 | 07/17/14 | VOR/DME RWY 28, Amdt 1A.
18-Sep-14 | NC | Elizabeth City | Elizabeth City CG Air Station/Rgnl | 4/0863 | 07/17/14 | VOR/DME RWY 19, Amdt 10E.
18-Sep-14 | NC | Elizabeth City | Elizabeth City CG Air Station/Rgnl | 4/0864 | 07/17/14 | VOR/DME RWY 10, Orig-D.
18-Sep-14 | NC | Elizabeth City | Elizabeth City CG Air Station/Rgnl | 4/0865 | 07/17/14 | NDB RWY 10, Orig-F.
18-Sep-14 | NC | Elizabeth City | Elizabeth City Cg Air Station/Rgnl | 4/0866 | 07/29/14 | RNAV (GPS) RWY 1, Orig-B.
18-Sep-14 | NC | Elizabeth City | Elizabeth City CG Air Station/Rgnl | 4/0867 | 07/17/14 | RNAV (GPS) RWY 19, Orig-A.
18-Sep-14 | NC | Elizabeth City | Elizabeth City CG Air Station/Rgnl | 4/0869 | 07/17/14 | ILS OR LOC RWY 10, Amdt 1.
18-Sep-14 | NC | Elizabeth City | Elizabeth City Cg Air Station/Rgnl | 4/0870 | 07/17/14 | RNAV (GPS) RWY 10, Amdt 1A.
18-Sep-14 | KY | Sturgis | Sturgis Muni | 4/0921 | 07/22/14 | RNAV (GPS) RWY 19, Amdt 1.
18-Sep-14 | KY | Sturgis | Sturgis Muni | 4/0923 | 07/22/14 | RNAV (GPS) RWY 1, Amdt 1.
18-Sep-14 | SC | Florence | Florence Rgnl | 4/1071 | 07/17/14 | VOR OR TACAN A, Amdt 6.
18-Sep-14 | SC | Florence | Florence Rgnl | 4/1072 | 07/17/14 | RNAV (GPS) RWY 27, Orig.
18-Sep-14 | SC | Florence | Florence Rgnl | 4/1073 | 07/17/14 | RNAV (GPS) RWY 19, Orig.
18-Sep-14 | SC | Florence | Florence Rgnl | 4/1080 | 07/17/14 | ILS OR LOC RWY 9, Amdt 12.
18-Sep-14 | SC | Florence | Florence Rgnl | 4/1086 | 07/17/14 | RNAV (GPS) RWY 1, Orig.
18-Sep-14 | AZ | Flagstaff | Flagstaff Pulliam | 4/1775 | 07/22/14 | RNAV (GPS) Y RWY 21, Orig.
18-Sep-14 | AZ | Flagstaff | Flagstaff Pulliam | 4/1778 | 07/22/14 | VOR/DME RWY 21, Orig-C.
18-Sep-14 | NC | Wilson | Wilson Industrial Air Center | 4/1779 | 07/25/14 | RNAV (GPS) RWY 3, Amdt 1A.
18-Sep-14 | NY | Newburgh | Stewart Intl | 4/1853 | 07/25/14 | ILS OR LOC RWY 27, Amdt 1A.
18-Sep-14 | NY | Newburgh | Stewart Intl | 4/1855 | 07/25/14 | RNAV (GPS) RWY 27, Amdt 1A.
18-Sep-14 | NY | Newburgh | Stewart Intl | 4/1856 | 07/25/14 | RNAV (GPS) RWY 9, Amdt 1A.
18-Sep-14 | WA | Seattle | Seattle-Tacoma Intl | 4/1891 | 07/22/14 | RNAV (GPS) Y RWY 34R, Amdt 2B.
18-Sep-14 | NV | Las Vegas | North Las Vegas | 4/2060 | 07/22/14 | GPS RWY 12R, Orig-D.
18-Sep-14 | TN | Chattanooga | Lovell Field | 4/2277 | 07/29/14 | RNAV (GPS) RWY 15, Orig.
18-Sep-14 | TN | Chattanooga | Lovell Field | 4/2278 | 07/29/14 | RNAV (GPS) RWY 33, Orig.
18-Sep-14 | FL | Orlando | Orlando Sanford Intl | 4/2302 | 07/25/14 | ILS OR LOC RWY 9L, Amdt 4.
18-Sep-14 | NC | Wilson | Wilson Industrial Air Center | 4/2351 | 07/25/14 | RNAV (GPS) RWY 21, Orig-B.
18-Sep-14 | NC | Wilson | Wilson Industrial Air Center | 4/2354 | 07/25/14 | RNAV (GPS) RWY 33, Orig-A.
18-Sep-14 | NJ | Caldwell | Essex County | 4/2357 | 07/17/14 | RNAV (GPS) RWY 4, Orig.
18-Sep-14 | DE | Wilmington | New Castle | 4/2362 | 07/22/14 | RNAV (GPS) RWY 27, Orig.
18-Sep-14 | DE | Wilmington | New Castle | 4/2397 | 07/22/14 | RNAV (GPS) RWY 9, Orig.
18-Sep-14 | PA | St Marys | St Marys Muni | 4/2401 | 07/25/14 | RNAV (GPS) RWY 28, Amdt 1A.
18-Sep-14 | PA | St Marys | St Marys Muni | 4/2402 | 07/25/14 | LOC/DME RWY 28, Amdt 4A.
18-Sep-14 | PA | St Marys | St Marys Muni | 4/2403 | 07/25/14 | VOR RWY 28, Amdt 7.
18-Sep-14 | NC | Raleigh/Durham | Raleigh-Durham Intl | 4/2407 | 07/25/14 | VOR RWY 32, Amdt 3C.
18-Sep-14 | MA | Chatham | Chatham Muni | 4/2408 | 07/25/14 | RNAV (GPS) B, Orig-A.
18-Sep-14 | MA | Chatham | Chatham Muni | 4/2409 | 07/25/14 | NDB A, Amdt 1A.
18-Sep-14 | PA | Reading | Reading Rgnl/Carl A Spaatz Field | 4/2411 | 07/29/14 | RNAV (GPS) RWY 18, Orig.
18-Sep-14 | PA | Reading | Reading Rgnl/Carl A Spaatz Field | 4/2412 | 07/29/14 | RNAV (GPS) RWY 13, Orig.
18-Sep-14 | NJ | Caldwell | Essex County | 4/2415 | 07/17/14 | RNAV (GPS) RWY 10, Orig.
18-Sep-14 | NJ | Caldwell | Essex County | 4/2441 | 07/17/14 | LOC RWY 22, Amdt 3.
18-Sep-14 | NJ | Caldwell | Essex County | 4/2456 | 07/17/14 | RNAV (GPS) RWY 22, Amdt 1.
18-Sep-14 | NC | Erwin | Harnett Rgnl Jetport | 4/2513 | 07/29/14 | NDB RWY 23, Amdt 2A.
18-Sep-14 | MA | Great Barrington | Walter J. Koladza | 4/2699 | 07/17/14 | RNAV (GPS) RWY 11, Orig.
18-Sep-14 | FL | Tampa | Peter O Knight | 4/2742 | 07/29/14 | RNAV (GPS) RWY 22, Amdt 2.
18-Sep-14 | NY | Newburgh | Stewart Intl | 4/2932 | 07/22/14 | RNAV (GPS) RWY 34, Amdt 1A.
18-Sep-14 | WV | Parkersburg | Mid-Ohio Valley Rgnl | 4/3460 | 07/29/14 | RNAV (GPS) RWY 10, Orig.
18-Sep-14 | WV | Parkersburg | Mid-Ohio Valley Rgnl | 4/3461 | 07/29/14 | RNAV (GPS) RWY 28, Orig.
18-Sep-14 | WV | Parkersburg | Mid-Ohio Valley Rgnl | 4/3462 | 07/29/14 | RNAV (GPS) RWY 3, Amdt 2.
18-Sep-14 | WV | Parkersburg | Mid-Ohio Valley Rgnl | 4/3463 | 07/29/14 | RNAV (GPS) RWY 21, Amdt 2A.
18-Sep-14 | GA | Jekyll Island | Jekyll Island | 4/3560 | 07/17/14 | RNAV (GPS) RWY 36, Amdt 1.
18-Sep-14 | GA | Jekyll Island | Jekyll Island | 4/3564 | 07/17/14 | RNAV (GPS) RWY 18, Orig.
18-Sep-14 | ME | Pittsfield | Pittsfield Muni | 4/3566 | 07/17/14 | RNAV (GPS) RWY 18, Orig-B.
18-Sep-14 | WY | Casper | Casper/Natrona County Intl | 4/3995 | 07/29/14 | ILS OR LOC RWY 8, Amdt 25A.
18-Sep-14 | WA | Olympia | Olympia Rgnl | 4/4127 | 07/17/14 | VOR A, Amdt 1A.
18-Sep-14 | WA | Olympia | Olympia Rgnl | 4/4129 | 07/17/14 | ILS OR LOC RWY 17, Amdt 12.
18-Sep-14 | WA | Olympia | Olympia Rgnl | 4/4130 | 07/17/14 | VOR/DME RWY 35, Amdt 12A.
18-Sep-14 | WA | Puyallup | Pierce County—Thun Field | 4/4161 | 07/17/14 | GPS RWY 34, Orig-B.
18-Sep-14 | NY | Buffalo | Buffalo Airfield | 4/4167 | 07/17/14 | RNAV (GPS) RWY 24, Amdt 1.
18-Sep-14 | NY | Buffalo | Buffalo Airfield | 4/4168 | 07/17/14 | RNAV (GPS) RWY 6, Orig.
18-Sep-14 | FL | Palm Coast | Flagler County | 4/4237 | 07/29/14 | RNAV (GPS) RWY 24, Orig-A.
18-Sep-14 | FL | Palm Coast | Flagler County | 4/4239 | 07/29/14 | RNAV (GPS) RWY 29, Orig-A.
18-Sep-14 | AK | Cold Bay | Cold Bay | 4/4395 | 07/17/14 | RNAV (GPS) RWY 33, Amdt 2A.
18-Sep-14 | AK | Cold Bay | Cold Bay | 4/4398 | 07/17/14 | LOC/DME BC RWY 33, Amdt 10A.
18-Sep-14 | AK | Cold Bay | Cold Bay | 4/4399 | 07/17/14 | RNAV (GPS) RWY 15, Amdt 2.
18-Sep-14 | AK | Cold Bay | Cold Bay | 4/4400 | 07/17/14 | VOR RWY 15, Amdt 15.
18-Sep-14 | AK | Cold Bay | Cold Bay | 4/4404 | 07/17/14 | ILS OR LOC/DME RWY 15, Amdt 18.
18-Sep-14 | AL | Alexander City | Thomas C Russell Fld | 4/4458 | 07/17/14 | RNAV (GPS) RWY 36, Amdt 2.
18-Sep-14 | AK | Kenai | Kenai Muni | 4/4494 | 07/17/14 | VOR RWY 19R, Amdt 19.
18-Sep-14 | AK | Kenai | Kenai Muni | 4/4496 | 07/17/14 | RNAV (GPS) RWY 19R, Amdt 2.
18-Sep-14 | AK | Kenai | Kenai Muni | 4/4497 | 07/17/14 | ILS OR LOC RWY 19R, Amdt 4.
18-Sep-14 | CT | Willimantic | Windham | 4/4544 | 07/22/14 | RNAV (GPS) RWY 9, Amdt 1.
18-Sep-14 | CT | Willimantic | Windham | 4/4547 | 07/22/14 | RNAV (GPS) RWY 27, Amdt 1.
18-Sep-14 | MS | Bay St Louis | Stennis Intl | 4/4555 | 07/22/14 | RNAV (GPS) RWY 36, Amdt 2.
18-Sep-14 | FL | Punta Gorda | Punta Gorda | 4/4618 | 07/17/14 | VOR RWY 22, Amdt 4A.
18-Sep-14 | FL | Punta Gorda | Punta Gorda | 4/4619 | 07/17/14 | RNAV (GPS) RWY 33, Orig-A.
18-Sep-14 | AK | Dillingham | Dillingham | 4/4748 | 07/29/14 | VOR/DME RWY 19, Amdt 7B.
18-Sep-14 | AK | Dillingham | Dillingham | 4/4749 | 07/29/14 | RNAV (GPS) RWY 19, Amdt 2C.
18-Sep-14 | AK | Dillingham | Dillingham | 4/4750 | 07/29/14 | LOC/DME RWY 19, Amdt 6C.
18-Sep-14 | AK | Deering | Deering | 4/4880 | 07/17/14 | RNAV (GPS) RWY 29, Orig-B.
18-Sep-14 | AK | Deering | Deering | 4/4881 | 07/17/14 | RNAV (GPS) RWY 11, Orig-B.
18-Sep-14 | AK | Klawock | Klawock | 4/4883 | 07/17/14 | NDB/DME RWY 2, Amdt 1B.
18-Sep-14 | PA | Erie | Erie Intl/Tom Ridge Field | 4/5229 | 07/25/14 | RNAV (GPS) RWY 24, Amdt 1.
18-Sep-14 | AL | Troy | Troy Muni Airport At N. Kenneth Campbell Field | 4/5239 | 07/29/14 | RADAR-1, Amdt 10.
18-Sep-14 | VA | Richmond | Richmond Intl | 4/5273 | 07/29/14 | RNAV (RNP) Y RWY 16, Orig.
18-Sep-14 | VA | Richmond | Richmond Intl | 4/5277 | 07/29/14 | RNAV (GPS) Z RWY 20, Amdt 2.
18-Sep-14 | VA | Richmond | Richmond Intl | 4/5279 | 07/29/14 | RNAV (RNP) Y RWY 34, Orig.
18-Sep-14 | AK | Point Hope | Point Hope | 4/5305 | 07/17/14 | NDB RWY 19, Amdt 2A.
18-Sep-14 | AK | Point Hope | Point Hope | 4/5306 | 07/17/14 | NDB RWY 1, Amdt 2A.
18-Sep-14 | PA | Butler | Butler County/K W Scholter Field | 4/5715 | 07/29/14 | ILS OR LOC RWY 8, Amdt 8.
18-Sep-14 | PA | Butler | Butler County/K W Scholter Field | 4/5716 | 07/29/14 | RNAV (GPS) RWY 26, Amdt 1.
18-Sep-14 | PA | Butler | Butler County/K W Scholter Field | 4/5717 | 07/29/14 | RNAV (GPS) RWY 8, Amdt 1.
18-Sep-14 | MS | Madison | Bruce Campbell Field | 4/5958 | 07/17/14 | RNAV (GPS) RWY 35, Orig.
18-Sep-14 | MS | Bay St Louis | Stennis Intl | 4/6058 | 07/22/14 | RNAV (GPS) RWY 18, Amdt 1.
18-Sep-14 | MS | Bay St Louis | Stennis Intl | 4/6059 | 07/22/14 | ILS OR LOC RWY 18, Amdt 1.
18-Sep-14 | AK | Fairbanks | Fairbanks Intl | 4/6700 | 07/17/14 | RNAV (GPS) RWY 2R, Orig-A.
18-Sep-14 | NC | Jacksonville | Albert J Ellis | 4/6772 | 07/17/14 | RNAV (GPS) RWY 23, Orig.
18-Sep-14 | SC | Cheraw | Cheraw Muni/Lynch Bellinger Field | 4/7888 | 07/22/14 | VOR/DME RWY 8, Amdt 3A.
18-Sep-14 | SC | Cheraw | Cheraw Muni/Lynch Bellinger Field | 4/7889 | 07/22/14 | RNAV (GPS) RWY 26, Amdt 1A.
18-Sep-14 | SC | Cheraw | Cheraw Muni/Lynch Bellinger Field | 4/7897 | 07/22/14 | RNAV (GPS) RWY 8, Orig.
18-Sep-14 | CA | Paso Robles | Paso Robles Muni | 4/8020 | 07/17/14 | VOR/DME RWY 19, Amdt 4.
18-Sep-14 | CA | Hanford | Hanford Muni | 4/8346 | 07/17/14 | RNAV (GPS) A, Orig.
18-Sep-14 | AZ | Chandler | Stellar Airpark | 4/8348 | 07/17/14 | VOR OR GPS A, Amdt 1A.
18-Sep-14 | CA | Hanford | Hanford Muni | 4/8349 | 07/17/14 | VOR A, Amdt 9B.
18-Sep-14 | CA | Hanford | Hanford Muni | 4/8350 | 07/17/14 | RNAV (GPS) RWY 32, Amdt 1A.
18-Sep-14 | MS | Pascagoula | Trent Lott Intl | 4/8818 | 07/17/14 | ILS OR LOC RWY 17, Amdt 2.
18-Sep-14 | GA | Toccoa | Toccoa Rg Letourneau Field | 4/8855 | 07/17/14 | RNAV (GPS) RWY 20, Amdt 1A.
18-Sep-14 | MS | Pascagoula | Trent Lott Intl | 4/8857 | 07/17/14 | RNAV (GPS) RWY 17, Amdt 1.
18-Sep-14 | NC | Asheboro | Asheboro Rgnl | 4/9088 | 07/17/14 | RNAV (GPS) RWY 21, Orig.
18-Sep-14 | AL | Mobile | Mobile Rgnl | 4/9089 | 07/17/14 | RNAV (GPS) RWY 18, Amdt 1.
18-Sep-14 | ME | Rockland | Knox County Rgnl | 4/9496 | 07/17/14 | NDB RWY 31, Orig-B.
18-Sep-14 | VA | Richmond/Ashland | Hanover County Muni | 4/9564 | 07/17/14 | LOC RWY 16, Amdt 3B.
18-Sep-14 | VA | Richmond/Ashland | Hanover County Muni | 4/9568 | 07/17/14 | VOR RWY 16, Amdt 2B.
18-Sep-14 | VA | Richmond/Ashland | Hanover County Muni | 4/9569 | 07/17/14 | RNAV (GPS) RWY 16, Orig-B.
18-Sep-14 | AL | Prattville | Prattville—Grouby Field | 4/9596 | 07/17/14 | RNAV (GPS) RWY 27, Orig-A.
18-Sep-14 | NY | Seneca Falls | Finger Lakes Rgnl | 4/9619 | 07/17/14 | Takeoff Minimums and (Obstacle) DP, Orig.
18-Sep-14 | TN | Rogersville | Hawkins County | 4/9621 | 07/17/14 | Takeoff Minimums and (Obstacle) DP, Amdt 2.

[FR Doc. 2014-20659 Filed 8-29-14; 8:45 am]

BILLING CODE 4910-13-P